DEPARTMENT OF AGRICULTURE

Agricultural Marketing Service

[Doc. No. TM-05-09]

Notice of Meeting of the National Organic Standards Board; Correction

AGENCY: Agricultural Marketing Service, USDA.

ACTION: Notice of meeting; correction.

SUMMARY: The Agricultural Marketing Service published a document in the Federal Register on July 26, 2005, (70 FR 43116), announcing a forthcoming meeting of the National Organic Standards Board (NOSB). The document contained an incorrect date requesting individuals and organizations wishing to make an oral presentation at the meeting to do so by close of business on July 25, 2005. The correct date is listed below.

DATES: Requests from individuals and organizations wishing to make an oral presentation at the meeting are due by the close of business on August 12, 2005.

FOR FURTHER INFORMATION CONTACT: Katherine E. Benham, Advisory Board Specialist, National Organic Program, (202) 205-7806.

Dated: August 3, 2005.
Kenneth C. Clayton,
Acting Administrator, Agricultural Marketing Service.

[FR Doc. 05-15621 Filed 8-4-05; 8:45 am]

BILLING CODE 3410-02-P